DEPARTMENT OF EDUCATION

Submission for OMB Review; Comment Request

AGENCY: Department of Education.

SUMMARY: The Director, Information Collection Clearance Division, Regulatory Information Management Services, Office of Management invites comments on the submission for OMB review as required by the Paperwork Reduction Act of 1995.

DATES: Interested persons are invited to submit comments on or before October 19, 2009.

ADDRESSES: Written comments should be addressed to the Office of Information and Regulatory Affairs, Attention: Education Desk Officer, Office of Management and Budget, 725 17th Street, NW., Room 10222, New Executive Office Building, Washington, DC 20503, be faxed to (202) 395-5806 or send e-mail to oira_submission@omb.eop.gov.

SUPPLEMENTARY INFORMATION: Section 3506 of the Paperwork Reduction Act of 1995 (44 U.S.C. Chapter 35) requires that the Office of Management and Budget (OMB) provide interested Federal agencies and the public an early opportunity to comment on information collection requests. OMB may amend or waive the requirement for public consultation to the extent that public participation in the approval process would defeat the purpose of the information collection, violate State or Federal law, or substantially interfere with any agency's ability to perform its statutory obligations. The IC Clearance Official, Regulatory Information Management Services, Office of Management, publishes that notice containing proposed information collection requests prior to submission of these requests to OMB. Each proposed information collection, grouped by office, contains the following: (1) Type of review requested, e.g. new, revision, extension, existing or reinstatement; (2) Title; (3) Summary of the collection; (4) Description of the need for, and proposed use of, the information; (5) Respondents and frequency of collection; and (6) Reporting and/or Recordkeeping burden. OMB invites public comment.

Dated: September 15, 2009.
Angela C. Arrington,
Director, Information Collection Clearance Division, Regulatory Information Management Services, Office of Management.

Office of Elementary and Secondary Education

Type of Review: New.

Title: Indian Education Professional Development Grants Program: GPRA and Service Payback Data Collection.

Frequency: Semi-Annually.

Affected Public: Individuals; Not-for-profit institutions; State, Local, or Tribal Gov't, SEAs or LEAs.

Reporting and Recordkeeping Hour Burden:

Responses: 2,076.

Burden Hours: 8,580.

Abstract: The Office of Indian Education Professional Development (OIE PD) Grants program wishes to implement (1) A Semi-Annual Participant Report (SAPR), (2) a Participant Follow-Up Protocol, and (3) an Employment Verification survey. OIE PD grantees will submit participant contact and project service information on the SAPR twice a year. The OIE PD Grants program staff will use the Participant Follow-Up Protocol to collect employment and continuing education information from IE PD participants who are not in an approved and active deferment once they have exited the program. IE PD participants will initiate contact with IE PD staff within 6 months of exiting the PD program and every 6 months thereafter for the length of their service payback period to report their employment and continuing education information. IE PD participants working in a local educational agency enrolling 5 percent or more of American Indian/Alaska Native students will give the Employment Verification form to their principal or LEA representative to complete. The OIE PD grants program participants will submit employment verification forms to employers, starting upon employment and continuing every 6 months thereafter. The information collected through the SAPR, the Participant Follow-Up Protocol, and the Employment Verification Form is necessary to (1) Assess the performance of the IE PD program on its Government Performance Results Act (GPRA) measures, (2) determine if IE PD participants are fulfilling the terms of their service payback requirements, and (3) provide project-monitoring and compliance information to IE PD Grants program staff.

Requests for copies of the information collection submission for OMB review may be accessed from http://edicsweb.ed.gov, by selecting the “Browse Pending Collections” link and by clicking on link number 4082. When you access the information collection, click on “Download Attachments” to view. Written requests for information should be addressed to U.S. Department of Education, 400 Maryland Avenue, SW., LBJ, Washington, DC 20202-4537. Requests may also be electronically mailed to the Internet address ICDocketMgr@ed.gov or faxed to 202-401-0920. Please specify the complete title of the information collection when making your request.

Comments regarding burden and/or the collection activity requirements should be electronically mailed to ICDocketMgr@ed.gov. Individuals who use a telecommunications device for the deaf (TDD) may call the Federal Information Relay Service (FIRS) at 1-800-877-8339.

[FR Doc. E9-22546 Filed 9-17-09; 8:45 am]

BILLING CODE 4000-01-P